DEPARTMENT OF HOMELAND SECURITY

U.S. Customs and Border Protection

Notice of Revocation of Customs Brokers' National Permits

AGENCY: U.S. Customs and Border Protection, Department of Homeland Security.

ACTION: Revocation of customs brokers' national permits.

SUMMARY: This document provides notice of the revocation by operation of law of customs brokers' national permits for calendar years 2023 and 2024.

FOR FURTHER INFORMATION CONTACT: Mohammad O. Qureshi, Chief, Broker Management Branch, Office of Trade, (202) 909-3753, or mohammad.o.qureshi@cbp.dhs.gov.

SUPPLEMENTARY INFORMATION: This document provides notice that, pursuant to section 641 of the Tariff Act of 1930, as amended (19 U.S.C. 1641), and sections 111.45(b) and 111.96(c) of title 19 of the Code of Federal Regulations (19 CFR 111.45(b) and 19 CFR 111.96(c)), the following customs brokers' national permits were revoked by operation of law, without prejudice, for failure to pay the annual permit user fee for calendar year 2023 by February 24, 2023, or calendar year 2024 by February 9, 2024.¹ Pursuant to 19 CFR 111.45(c), a list of revoked customs brokers' national permits appears below.

¹ U.S. Customs and Border Protection publishes the date by which the permit user fee must be paid annually. See 87 FR 77132 (December 16, 2022) and 88 FR 82910 (November 27, 2023).

Last name/company name | First name | Permit No.
Acosta | Martha L | 2022-0348
Ampac Customs Service Inc |  | 2022-0220
Bansard Anker International LLC |  | 17-157
BRi Boise Inc |  | 06-0108
Bruno | Mary Jo | 17-016
Bustard | Michelle J | 2022-0487
Casso | Luis R | 2022-0415
Chariez | Jose | 19-133
Christiansen | Michael Brian | 2022-0218
Daniel D. Casale Customs Broker Inc |  | 99-0123
Diaz | Benny | 2020-0085
Dubon | Eduardo | 2022-0290
Duncan | Robert A | 12-039
eDrawback LLC |  | 2022-0103
F.C. Felhaber & Co., Inc |  | 13-019
Gateway CHB, Ltd |  | 99-00643
GEFCO Forwarding USA, Inc |  | 99-00429
Golovets | Alexander | 2022-0450
Hart Worldwide Logistics Inc |  | 08-0064
Heimark | David Preston | 2022-0269
Hellstrom | Lenny Dean | 15-019
Hossain | Amir | 2022-0212
Indigo Trade Solutions LLC |  | 19-036
Jarrett | Deborah Anne | 11-060
Kim | Chong H | 2022-0179
Krief | Gerald Jacob | 2022-0485
Labay/Summers International, Inc |  | 2022-0209
Liao | Mike | 09-0058
Logicargo Trade Group LLC |  | 2021-0003
Lu | Cindy Yu | 2020-0032
Michaud | Peggy G | 2022-0213
Moyer | Peter C | 07-0149
Nistal Intl Inc |  | 17-123
Noah | Frank Seung | 06-0120
Nobel Cargo Customs Inc |  | 11-019
Oliva-Hardison | Angel A | 2022-0336
PCU Customs Brokers |  | 19-072
Preferred Services Inc |  | 12-056
Prologix LLC |  | 19-017
Riggs | Kathleen Tansey | 08-0040
Tri-Port Clearance Corp |  | 99-00205
Voight | Paul | 2022-0263
Whittingham | David | 04-00010

Dated: September 18, 2024.
AnnMarie R. Highsmith,
Executive Assistant Commissioner, Office of Trade.

[FR Doc. 2024-21768 Filed 9-23-24; 8:45 am]

BILLING CODE 9111-14-P